DEPARTMENT OF THE INTERIOR

Fish and Wildlife Service

Migratory Bird Hunting; Draft Environmental Impact Statement on Resident Canada Goose Management

AGENCY: Fish and Wildlife Service, Interior.

ACTION: Notice of meetings.

SUMMARY: The U.S. Fish and Wildlife Service (Service) has prepared a Draft Environmental Impact Statement (DEIS) on resident Canada goose management which is available for public review. The DEIS analyzes the potential environmental impacts of several management alternatives for addressing problems associated with overabundant resident Canada goose populations. The Service is issuing this notice to invite further public participation in the review process, identify the location, date, and time of public hearings, and identify the Service official to whom questions and comments may be directed.

DATES: Written comments regarding the DEIS should be submitted by May 30, 2002, to the address below. Dates for eleven public scoping meetings are identified in the SUPPLEMENTARY INFORMATION section.

ADDRESSES: Requests for copies of the DEIS should be mailed to Chief, Division of Migratory Bird Management, U.S. Fish and Wildlife Service, Department of the Interior, ms 634—ARLSQ, 1849 C Street NW., Washington, DC 20240. Comments on the DEIS should be sent to the above address. Copies of the DEIS can be downloaded from the Division of Migratory Bird Management web site at http://migratorybirds.fws.gov Comments on the DEIS should be sent to the above address. Alternatively, comments may be submitted electronically to the following address: canada_goose_eis@fws.gov. Locations for eleven public hearings are identified in the SUPPLEMENTARY INFORMATION section.

FOR FURTHER INFORMATION CONTACT: Jon Andrew, Chief, Division of Migratory Bird Management, (703) 358-1714; or Ronald Kokel (703) 358-1714.

SUPPLEMENTARY INFORMATION: On August 19, 1999, a notice was published in the Federal Register (64 FR 45269) announcing that the Service intended to prepare an Environmental Impact Statement for resident Canada goose management. On March 1, 2002, the Environmental Protection Agency notified the public of the availability of the DEIS in the Federal Register (67 FR 9448). In the March 1, 2002 notice, we indicated that the comment period would end on May 30, 2002. This notice is provided pursuant to Fish and Wildlife Service regulations for implementing the National Environmental Policy Act of 1969 (40 CFR 1506.6).

Public Scoping Meetings

Eleven public hearings will be held on the following dates at the indicated locations and times:

1. April 1, 2002; Dallas, Texas, at the Hyatt Regency Downtown, 300 Reunion Boulevard, 7 p.m.

2. April 23, 2002; Palatine, Illinois, at the Holiday Inn Express, 1550 E. Dundee Road, 7 p.m.

3. April 24, 2002; Waupun, Wisconsin, at the Waupun High School, 801 E. Lincoln, 7 p.m.

4. May 7 2002; Franklin, Tennessee, at Franklin Cool Springs Marriott, 700 Cool Springs Blvd., 7 p.m.

5. May 14, 2002; Bloomington, Minnesota, at the Minnesota Valley National Wildlife Refuge Visitors Center, 3815 East 80th Street, 7 p.m.

6. May 15, 2002; Brookings, South Dakota, at Brookings Area Multiplex, 824 32nd Avenue, 7 p.m.

7. May 20, 2002; Richmond, Virginia, at the Comfort Inn Conference Center, 3200 W. Broad Street, 7 p.m.

8. May 21, 2002; Danbury, Connecticut, at the Holiday Inn, 80 Newtown Road, 7 p.m.

9. May 22, 2002; North Brunswick, New Jersey, at the Ramada Inn, 999 U.S. Route 1 South, 7 p.m.

10. May 29, 2002; Denver, Colorado, at the Colorado Department of Wildlife, Northeast Region Service Center, Hunter Education Building, 6060 Broadway, 7 p.m.

11. May 30, 2002; Bellevue, Washington, at the DoubleTree Hotel, 300—112th Avenue S.E., 7 p.m.

In order to be considered, comments must include your name and postal mailing address; we will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations (40 CFR 1506.6(f)). Our practice is to make comments available for public review during regular business hours. Individual respondents may request that we withhold their home address from the record, which we will honor to the extent allowable by law. If a respondent wishes us to withhold his/her name and/or address, this must be stated prominently at the beginning of the comment.

The DEIS evaluates alternative strategies to reduce, manage, and control resident Canada goose populations in the continental United States and to reduce goose-related damages. The objective of the DEIS is to provide a regulatory mechanism that would allow State and local agencies, other Federal agencies, and groups and individuals to respond to damage complaints or damages by resident Canada geese. The DEIS is a comprehensive programmatic plan intended to guide and direct resident Canada goose population growth and management activities in the conterminous United States. The DEIS analyzes seven management alternatives: (1) No Action (Alternative A); (2) Increase Use of Nonlethal Control and Management (excludes all permitted activities) (Alternative B); (3) Increase Use of Nonlethal Control and Management (continued permitting of those activities generally considered nonlethal) (Alternative C); (4) New Regulatory Options to Expand Hunting Methods and Opportunities (Alternative D); (5) Integrated Depredation Order Management (consisting of an Airport Depredation Order, a Nest and Egg Depredation Order, a Agricultural Depredation Order, and a Public Health Depredation Order) (Alternative E); (6) State Empowerment (PROPOSED ACTION) (Alternative F); and (7) General Depredation Order (Alternative G). Alternatives were analyzed with regard to their potential impacts on resident Canada geese, other wildlife species, natural resources, special status species, socioeconomics, historical resources, and cultural resources.

Our proposed action (Alternative F) would establish a regulation authorizing State wildlife agencies (or their authorized agents) to conduct (or allow) management activities, including the take of birds, on resident Canada goose populations. Alternative F would authorize indirect and/or direct population control strategies such as aggressive harassment, nest and egg destruction, gosling and adult trapping and culling programs, expanded methods of take to increase hunter harvest, or other general population reduction strategies. The intent of Alternative F is to allow State wildlife management agencies sufficient flexibility, within predefined guidelines, to deal with problems caused by resident Canada geese within their respective States. Other guidelines under Alternative F would include criteria for such activities as special expanded harvest opportunities during a portion of the Migratory Bird Treaty closed period (August 1-31), airport, agricultural, and public health control, and the non-permitted take of nests and eggs.

Dated: March 7, 2002.
Steve Williams,
Director.

[FR Doc. 02-7215 Filed 3-25-02; 8:45 am]

BILLING CODE 4310-55-P